DEPARTMENT OF HOMELAND SECURITY

Coast Guard

33 CFR Part 165

[Docket No. USCG-2011-0523]

RIN 1625-AAOO

Safety Zone; Houma Navigation Canal, From Waterway Mile Markers 19.0 to 20.0, Southwest of Bayou Plat, Bank to Bank, Terrebonne Parish, LA

AGENCY: Coast Guard, DHS.

ACTION: Temporary final rule.

SUMMARY: The Coast Guard is establishing a temporary safety zone in the Houma Navigation Canal, from Waterway Mile Markers 19.0 to 20.0, Southwest of Bayou Plat, bank to bank, Terrebonne Parish, Louisiana. This temporary safety zone is needed to protect the general public, vessels and tows from destruction, loss or injury due to the installation of flood control structures/barriers. Vessels and tows transiting this zone transiting the specified water are required to proceed at slowest safe speed to minimize wake. If necessary, entry into, transit through, mooring, or anchoring within the safety zone during time of enforcement may be prohibited unless authorized by the Captain of the Port, Morgan City or designated representative.

DATES: Effective Date: this rule is effective in the CFR from July 29, 2011 until 11:59 p.m., March 14, 2013. This rule is effective with actual notice for purposes of enforcement beginning 12:01 a.m June 27, 2011.

ADDRESSES: Documents indicated in this preamble as being available in the docket are part of docket USCG-2011-0523 and are available online by going to http://www.regulations.gov, inserting USCG-2011-0523 in the “Keyword” box, and then clicking “Search.” They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Ensign (ENS) Nicholas Jones, Coast Guard; telephone 985-857-8507 ext. 232, e-mail Nicholas.B.Jones@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because publishing a NPRM would be contrary to public interest due to the amount of notification received by the Coast Guard and the contractually imposed timeline for the installation of flood control structures/barriers. The Coast Guard received notice of the installation timeline in late May and promptly completed its required review and approval of the plan in June, leaving insufficient time to complete the NPRM process before the initial canal operations in June. Additionally, delaying the canal operations will impact L & A Contracting Co. requirements for delivery and installation by Mar 2013. Therefore, it would be impracticable to publish a NPRM and immediate action is needed to protect the personnel, general public, vessel and tows, and mariners from hazards associated with the installation process.

Under 5 U.S.C. 553(d)(3), based on the contractually imposed timeline and the notification received by the Coast Guard good cause exists for making this rule effective less than 30 days after publication in the Federal Register. The installation timeline presented to the USCG required immediate action and a delayed effective date would be contrary to public interest. Delaying or rescheduling the installation to provide 30 days notice also is impractical because the contractual timelines for beginning delivery and installation of the canal structures/barriers are in June, 2011. By making the rule effective immediately upon publication and enforceable with actual notice upon signature, the delivery and installation of the canal structures/barriers can continue under the applicable contract. Delaying the effective date would be impracticable as immediate action is need to protect the personnel, general public, vessel and tows, and mariners from hazards associated with the installation process.

Basis and Purpose

The Coast Guard received notice and application for the installation of Flood Control Structures/Barriers in the Houma Navigation Canal, from Waterway Mile Markers 19.0 to 20.0, southwest of Bayou Plat, Terrebonne Parish, LA. These structures/barriers are part of a plan to implement storm surge protection identified as Reach F and Segment 1 of Reach G of the Morganza to the Gulf hurricane protection system. The installation of the Flood Control Structures/Barriers requires the staging of equipment along the banks of the Houma Navigation Canal. To protect the general public, vessels and tows from destruction, loss or injury due to the installation, the Coast Guard is establishing a temporary safety zone which will continue through March 14, 2013. Vessels and tows transiting this zone will proceed at slowest safe speed to minimize wake.

Discussion of Rule

The Coast Guard is establishing a temporary Safety Zone in the Houma Navigation Canal, from Waterway Mile Markers 19.0 to 20.0, Southwest of Bayou Plat, bank to bank, Terrebonne Parish, LA. The temporary safety zone will continue through 11:59 p.m., March 14, 2013. Vessels and tows transiting this zone will proceed at slowest safe speed to minimize wake. All work on the project is scheduled to be complete by March 14, 2013.

The installation of the Flood Control Structures/Barriers requires the staging of equipment along the banks of the Houma Navigation Canal. The sequence of construction must allow a minimum of 125 feet for navigation to be open continuously as coordinated and approved by the U.S. Coast Guard and local industry.

The installation process will involve the following activities which are estimated to occur as scheduled, but Broadcast Notice to Mariners and Local Notice to Mariners will be used to inform the public of the safety zone enforcement periods as the project progresses.

Beginning on June 27, 2011, between Houma Navigation Canal Mile Markers 19.0 to 20.0, slowest safe speed to minimize wake will be required by all mariners transiting the zone until installation is completed on March 14, 2013.

During the installation, any anticipated waterway closures, if necessary to assist in the installation process, will be made through Broadcast Notice to Mariners and Local Notice to Mariners. During a closure, vessels and tows may request permission and the necessary restrictions from the Captain of the Port Morgan City, or a designated representative, for passage through the Safety Zone. During a closure, passage through the safety zone will be evaluated on a case-by-case basis.

Mariners should exercise extreme caution when transiting through the construction site and pass at slowest safe speed to minimize wake.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

This rule will only require mariners to proceed at the slowest safe speed to minimize wake while transiting the safety zone and any waterways closures needed to assist in the installation will be made through Broadcast Notice to Mariners and Local Notice to Mariners. Passage during a closure may be requested and will be considered on a case-by-case basis. The impacts on routine navigation are expected to be minimal.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit through the safety zone June 27, 2011 through March 14, 2013. This safety zone will not have a significant economic impact on a substantial number of small entities because the slowest safe speed to minimize wake is the only requirement through March 14, 2013. Any waterway closures, if necessary to assist in the installation process, will be made through Broadcast Notice to Mariners and Local Notice to Mariners. Passage during a closure may be requested and will be considered on a case-by-case basis.

If you are a small business entity and are significantly affected by this regulation, please contact ENS Nicholas Jones, Marine Safety Unit Houma, at (985) 857-8507 ext. 232.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction. This rule establishes a temporary safety zone to protect the public from the dangers associated with construction activity.

An environmental analysis checklist and a categorical exclusion determination will be provided and made available at the docket as indicated in the ADDRESSES section.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. A new temporary § 165.T11-0523 is added to read as follows:

§ 165.T11-0523 Safety Zone; Houma Navigation Canal, From Waterway Mile Markers 19.0 to 20.0, Southwest of Bayou Plat, Bank to Bank, Terrebonne Parish, LA.

(a) Location. Houma Navigation Canal, from Waterway Mile Markers 19.0 to 20.0, Southwest of Bayou Plat, bank to bank, Terrebonne Parish, Louisiana.

(b) Effective date. This rule is effective June 27, 2011, through March 14, 2013.

(c) Periods of Enforcement. This rule will be enforced upon signature through March 14, 2013. The Captain of the Port Morgan City or a designated representative will inform the public through Broadcast Notice to Mariners of the enforcement period for the safety zone as well as any changes in the planned schedule.

(d) Regulations. (1) In accordance with the general regulations in 33 CFR part 165, subpart C, entry into this zone should be at slowest safe speed to minimize wake unless authorized by the Captain of the Port Morgan City.

(2) Mariners shall transit through the construction site and pass at slowest safe speed to minimize wake.

(3) All persons and vessels shall comply with the instructions of the Captain of the Port Morgan City and designated on-scene patrol personnel. On-scene patrol personnel include commissioned, warrant, and petty officers of the U.S. Coast Guard.

(4) Any anticipated waterway closures will be made through Broadcast Notice to Mariners and Local Notice to Mariners. During a closure, vessels requiring entry into or passage through the Safety Zone must request permission from the Captain of the Port Morgan City, or a designated representative and passage will be considered on a case-by-case basis. They may be contacted on VHF Channel 11, 13, or 16, or by telephone at (985) 380-5370.

Dated: June 21, 2011.
J.C. Burton,
Captain, U.S. Coast Guard, Captain of the Port Morgan City, Louisiana.

[FR Doc. 2011-19185 Filed 7-28-11; 8:45 am]

BILLING CODE 9110-04-P